FEDERAL COMMUNICATIONS COMMISSION

[MB Docket No. 20-299; FCC 22-1309; FR ID 120095]

Sponsorship Identification Requirements for Foreign Government-Provided Programming

AGENCY: Federal Communications Commission.

ACTION: Notice.

SUMMARY: In this document, the Media Bureau extends the comment and reply comment deadlines for the Second Notice of Proposed Rulemaking Regarding Sponsorship Identification Requirements for Foreign Government-Provided Programming.

DATES: The extended comment deadline is January 9, 2023, and the extended reply comment deadline is January 24, 2023.

ADDRESSES: You may submit comments, identified by MB Docket No. 20-299, by any of the following methods:

• Electronic Filers: Comments may be filed electronically using the internet by accessing the ECFS: http://apps.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov (mail to: fcc504@fcc.gov) or call the FCC's Consumer and Governmental Affairs Bureau at (202) 418-0530 (voice), (202) 418-0432 (TTY).

FOR FURTHER INFORMATION CONTACT: Radhika Karmarkar, Media Bureau, Industry Analysis Division, Radhika.Karmarkar@fcc.gov, (202) 418-1523.

SUPPLEMENTARY INFORMATION: This is a summary of the Media Bureau's Public Notice, MB 20-299, released on December 13, 2022. The complete text of this document is available electronically via the search function on the FCC's Electronic Document Management System (EDOCS) web page at https://apps.fcc.gov/edocs_public/ (https://apps.fcc.gov/edocs_public/). To request materials in accessible formats for people with disabilities (Braille, large print, electronic files, audio format), send an email to fcc504@fcc.gov (mail to: fcc504@fcc.gov) or call the FCC's Consumer and Governmental Affairs Bureau at (202) 418-0530 (voice), (202) 418-0432 (TTY).

Synopsis

1. By this Public Notice, the Media Bureau extends the deadlines for filing comments and reply comments in the above-captioned proceeding. On October 6, 2022, the Commission released a Second Notice of Proposed Rulemaking (Second Notice) seeking comment on new rules to strengthen the process for identifying foreign governmental entities. The Second Notice specified comment and reply comments dates of 30 and 45 days, respectively, after Federal Register publication. That publication occurred on November 17, 2022, and on November 18, 2022, the Media Bureau released a Public Notice (Public Notice), announcing a comment filing deadline of December 19, 2022, and a reply comment filing deadline of January 3, 2023, for the Second Notice.

2. On December 7, 2022, the Multicultural Media, Telecom and internet Council (MMTC) and the National Association of Broadcasters (NAB) (collectively, Joint Filers) requested an extension of the comment and reply comment filing deadlines until January 9 and January 24, 2023, respectively. The Joint Filers correctly note that “three significant Federal holidays” occur during the comment cycle. Citing holiday-related closures, the Joint Filers explain how it is “challenging” under the original filing deadline “to gather relevant information from individual broadcasters and lessees affected by the proposed rules, build useful consensus around the issues in this proceeding, and draft comments and reply comments.” A coalition of religious organizations (the Religious Programmers) filed in support of the Joint Filers' Motion, also noting the difficulties presented by the intervening holidays.

3. As set forth in section 1.46(a) of the Commission's rules, the Commission's policy is that extensions of time shall not be routinely granted. We find, however, that the Joint Filers have provided sufficient justification to warrant grant of their requested extension. As an extension should enable interested parties to present more complete and thoughtful comments to the Commission, we agree with the Joint Filers that the extension should not disadvantage any party or cause significant delay in the resolution of this proceeding.

Federal Communications Commission.
Thomas Horan,
Chief of Staff,Media Bureau.

[FR Doc. 2022-28206 Filed 12-27-22; 8:45 am]

BILLING CODE 6712-01-P